DEPARTMENT OF HEALTH AND HUMAN SERVICES

Office of Inspector General

Program Exclusions: May 2002

AGENCY: Office of Inspector General, HHS.

ACTION: Notice of program exclusions.

During the month of May 2002, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
PROGRAM-RELATED CONVICTIONS
ABDULLAH, AHMAD OMAR | 06/20/2002
ORANGE, VA
BIRTHFIELD, INEZ O | 06/20/2002
JACKSON, MS
BRYANT, LESTER | 06/20/2002
JACKSON, MS
BUTLER, PAUL G JR | 06/20/2002
THREE RIVERS, TX
CARTER, MELODY J | 06/20/2002
ST ROBERT, MO
CAUDILL, WILLIAM A | 06/20/2002
SOMERSET, KY
COCHRAN, GERALD DENOREH | 06/20/2002
BASTROP, TX
DAGLIYAN, ARTHUR | 06/20/2002
GLENDALE, CA
DANIELS, EVANGELINE V | 06/20/2002
WILSON, NC
EXPRESS TRANSPORTATION INC | 06/20/2002
MILWAUKEE, WI
FLEITES, MIRELLA D | 06/20/2002
HIALEAH, FL
FREEMAN-METZGER, BARBARA | 06/20/2002
WHITING, IA
GARCIA, RAMON ROGER | 06/20/2002
HIALEAH, FL
GONZALEZ, SANDRA | 06/20/2002
LOMA LINDA, CA
GUERRA, LAZARO | 04/10/2001
MIAMI, FL
GUERRA, MARIA | 04/10/2001
MIAMI BEACH, FL
GUTIERREZ, DULCE M | 06/20/2002
HIALEAH, FL
HAMBRIGHT, BOBBY F JR | 06/20/2002
MILWAUKEE, WI
HARRIS, THOMAS D | 06/20/2002
POTEAU, OK
HERITAGE OB/GYN | 06/20/2002
AHOSKIE, NC
HERRERA, JUAN FIDENCIO | 06/20/2002
BASTROP, TX
IBRAHIM, ELHAFIZ MOHAMMED | 06/20/2002
WINSTON, NC
LARA, MANUEL J | 06/20/2002
AUSTIN, TX
LEON, ANGELA | 06/20/2002
MIAMI, FL
MANCEWICZ & WHITE, D D S, P C | 06/20/2002
KENTWOOD, MI
MANGIARELLI, KIM | 06/20/2002
CANANDAIGUA, NY
MARES, DANIEL ALBERTO | 06/20/2002
MIAMI, FL
MCCREA, TERRI L | 06/20/2002
ATLANTA, GA
MUKHATOVA, LARISA | 06/20/2002
VAN NUYS, CA
NOVAK, THOMAS V | 06/20/2002
MONGTOMERY, AL
OUDIN, JAMES CHARLES | 06/20/2002
LAKEWOOD, CA
PATTERSON, EDDIE PAUL | 06/20/2002
PASADENA, CA
PAZO, LAZARA | 06/20/2002
HIALEAH, FL
PEREZ, RENE | 06/20/2002
HIALEAH, FL
POK, MALACCA | 06/20/2002
SHAFTER, CA
RICHSTONE, GEOFFREY | 06/20/2002
FORT DIX, NJ
RODRIGUEZ, IRMA COOKIE | 06/20/2002
FT WORTH, TX
RODWELL, DINO | 06/20/2002
ELLICOTT CITY, MD
ROWAN, VICTORIA | 06/20/2002
SAN DIMAS, CA
SANCHEZ, ISABEL | 04/10/2001
MIRAMAR, FL
SHACKELFORD, DAN J | 06/20/2002
ATLANTA, GA
SHALETT, HAROLD | 06/20/2002
CHATTANOOGA, TN
SMITH, DEBBIE KAY | 06/20/2002
TRUMANN, AR
STANLEY, JAMES R. | 06/20/2002
FORT DIX, NJ
STEVENS, CINDY | 06/20/2002
CARMICHAEL, CA
TAUKEIAHO, SIONE | 06/20/2002
W VALLEY CITY, UT
TELGHEDER, MARGARET SPIERDOWIS | 06/20/2002
MONTVALE, NJ
TEXIERA, PATRICIA A | 06/20/2002
LOWELL, MA
THOMPSON, BRODERICK | 06/20/2002
THREE RIVERS, TX
TIMALI, SATAALEVAO DIANE | 06/20/2002
SALT LAKE CITY, UT
TRUMANN PARAMEDIC, INC | 06/20/2002
TRUMANN, AR
URIBE, FABIOLA | 06/20/2002
MIAMI, FL
WADLEY, ROGER LEON | 06/20/2002
WILBURTON, OK
WHEAT, PRISCILLA | 06/20/2002
POPLARVILLE, MS
WOODARD, CLARENCE W | 06/20/2002
FORREST CITY, AR
FELONY CONVICTION FOR HEALTH CARE FRAUD
BIEGANOWSKI, VICTOR J | 06/20/2002
EL PASO, TX
BINION, MAGDA | 06/20/2002
DANBURY, CT
BOSTON, SAMUEL | 06/20/2002
LILLINGTON, NC
FARINA, RICHARD J | 06/20/2002
CHURCHVILLE, PA
FIFER, KIM ANITA | 06/20/2002
LEXINGTON, KY
GONZALEZ, MICHAEL B | 06/20/2002
ORLANDO, FL
JENKINS, GARLAND LEE | 06/20/2002
CACHE, OK
FELONY CONTROL SUBSTANCE CONVICTION
CABEZA, ILIANA | 06/20/2002
COLEMAN, FL
DINOZZI, DAVID ANTHONY | 06/20/2002
BATAVIA, OH
GRANT, ALICE R | 06/20/2002
FORT WORTH, TX
HAYES, BARBARA ANN | 06/20/2002
MAINEVILLE, OH
HUNTER, CHRISTOPHER W | 06/20/2002
SOMERVILLE, NJ
MINOR, JIMMIE T | 06/20/2002
ELLIJAY, GA
TESTERMAN, AMY TALBOTT | 06/20/2002
SUTHERLIN, VA
WHITING, JOAN MYRTLE INNES | 06/20/2002
POCTATELLO, ID
PATIENT ABUSE/NEGLECT CONVICTIONS
ARMER, JANICE A | 06/20/2002
SCHENECTADY, NY
ASLANYAN, ROMELA | 06/20/2002
GLENDALE, CA
BAKER, THOMAS P | 06/20/2002
HERRIN, IL
CORTEZ, SYLVIA | 06/20/2002
OXNARD, CA
DAROSETT, SHAWN LEE | 06/20/2002
BUENA VISTA, CO
GILES, EDITH MARIE | 06/20/2002
DAVENPORT, IA
HALL, ALLISON GELENE | 06/20/2002
BETHEL, MO
HARTFORD, SALLY MARIE | 06/20/2002
TOLEDO, OH
LATNIK, TINA M | 06/20/2002
S EUCLID, OH
LEECH, DARLENE E | 06/20/2002
GUILFORD, NY
LOVE, KATHY M | 06/20/2002
DELAWARE, AR
LYLES, LINDA L | 06/20/2002
O'FALLON, IL
MIER-GASILOS, VICKY | 06/20/2002
EWA BEACH, HI
PFEIFER, ROCKELLE R | 06/20/2002
WAUKESHA, WI
PUCKETT, JAMISON | 06/20/2002
HAMILTON, OH
RODRIQUEZ, CHARLES | 06/20/2002
HUNTSVILLE, TX
SCHYVINCK, TAMMY L | 06/20/2002
EDGERTON, WI
SINGLETON, PAMELA L | 06/20/2002
CHARDON, OH
STOFFELS, JUDITH C | 06/20/2002
ALBANY, NY
SULKOWSKI, ALICJA | 06/20/2002
VALATIE, NY
TETRO, ERIC W | 06/20/2002
MURRAY, UT
WALKER, VENICE | 06/20/2002
UNIVERSITY PARK, IL
CONVICTION FOR HEALTH CARE FRAUD
BITKER, CAROLYNN JOY | 06/20/2002
PARK RAPIDS, MN
BURGESS, COLLETTE | 06/20/2002
SUMTER, SC
COLE-SEYDLER, VALERIE | 06/20/2002
BALLSTON SPA, NY
DALESKE, PATTI JO | 06/20/2002
ELDORA, IA
JANOWSKI, MARLEA VERA | 06/20/2002
IOWA FALLS, IA
KAPLAN, ROBERT A | 06/20/2002
STATEN ISLAND, NY
LICENSE REVOCATION/SUSPENSION/SURRENDERED
ANDREWS, KRISTA MARIE | 06/20/2002
WINNSBORO, TX
APOTHEKER, LESLIE DEBRA | 06/20/2002
FORT LAUDERDALE, FL
BARNES, DEBRAH S | 06/20/2002
JACKSON, TN
BOEZI, DONNA M | 06/20/2002
E GREENWICH, RI
BOONE, LESLIE | 06/20/2002
TRENTON, NJ
BRADEN, MARK STEPHEN | 06/20/2002
CHICO, CA
BRODIEN, LORIE | 06/20/2002
LITTLETON, NH
BULGER, PATRICE A | 06/20/2002
BAYVILLE, NJ
BULK, MARY K | 06/20/2002
RICHMOND, MO
BURGESS, KIMBERLY A | 06/20/2002
ARLINGTON, TX
CAREY, DENNIS L | 06/20/2002
GROVEPORT, OH
CASPER, CINDY D | 06/20/2002
CAROL STREAM, IL
CHAMNESS, BARBARA ANN | 06/20/2002
TAYLORVILLE, IL
CHIN, SANG IL | 06/20/2002
LOS ANGELES, CA
CLARK, BENJAMIN D | 06/20/2002
AURORA, CO
CLARK, SANDRA A | 06/20/2002
NEWPORT BEACH, CA
COHEN, SCOTT EDWARD | 06/20/2002
CINCINNATI, OH
COLLINS, ANTHONY WAYNE | 06/20/2002
GONZALES, LA
CONLEY, BRENDA CAROLYN TURNER | 06/20/2002
COVINGTON, KY
DAIGLE, FRANCES A F | 06/20/2002
DENISON, TX
DAVIS, BRENDA RIDER | 06/20/2002
FOLEY, AL
DENT, AMY | 06/20/2002
ENTERPRISE, AL
DESSOURCES, MARLENE | 06/20/2002
HOLBROOK, MA
DEUTCHMAN, RALPH F | 06/20/2002
STAMFORD, CT
DINGANKAR, HRISHIKESH S | 06/20/2002
DETROIT, MI
DIX, JOSEPH TIMOTHY | 06/20/2002
LOS ANGELES, CA
DIXON, DEBORAH D | 06/20/2002
NASHVILLE, TN
DRUMHELLER, GREGORY SCOTT | 06/20/2002
ROYAL PALM BCH, FL
ELDRIDGE, MONTE EUGENE | 06/20/2002
LAKEWOOD, CO
ELLIOTT, CAROLYN ANN | 06/20/2002
COTTONWOOD, AL
ESKRIDGE, SONYA MARIE | 06/20/2002
IRVING, TX
EYDINOV, BORIS | 06/20/2002
CHESTNUT HILL, MA
FIELDS, EVA A ROSS | 06/20/2002
ASHLAND, KY
FITZPATRICK, PATRICIA A | 06/20/2002
BURNHAM, ME
FORTIN, MICHAEL S | 06/20/2002
GOWANDA, NY
GASIOROWSKI, ELIZABETH E | 06/20/2002
PHOENIX, AZ
GRIFFIN, GERALD T | 06/20/2002
CRANSTON, RI
GUSTAFSON, CHRISTINE M | 06/20/2002
ATLANTA, GA
HARRISON, BETTY | 06/20/2002
GREENVILLE, MS
HENDRICKSON, BRIAN EDWIN | 06/20/2002
MINNEAPOLIS, MN
HESS, JOHN | 06/20/2002
ALBUQUERQUE, NM
HICKS, ALESIA JANINE | 06/20/2002
CORDOVA, AL
HOUCK, GREGORY MILES | 06/20/2002
THOUSAND OAKS, CA
HOWELL, ANNA R | 06/20/2002
EL PASO, TX
HUBBARD, CAROLYN K | 06/20/2002
GREELEY, CO
HUNTON, CLARA M | 06/20/2002
NORWAY, ME
HUTSON-MONTOYA, ROBIN | 06/20/2002
KANSAS CITY, MO
JACKSON, JAMES | 06/20/2002
DALLAS, TX
JACKSON, BONNIE LYNNE | 06/20/2002
GRAFTON, ND
JERMYN, KATHLEEN | 06/20/2002
HADDON HGTS, NJ
JOHNSON, DONNA G | 06/20/2002
BARRE, VT
JOHNSON, PATRICIA | 06/20/2002
PHILADELPHIA, MS
JONES, EVELYN FISHER | 06/20/2002
MONTGOMERY, AL
KARAS, RHONDA | 06/20/2002
ALBUQUERQUE, NM
KEENEY, SUSAN L | 06/20/2002
COLCHESTER, VT
KEETH, WALTER E | 06/20/2002
PUEBLO, CO
KILEN, DOUGLAS ASTOR | 06/20/2002
SUPERIOR, WI
KUMN, PATRICIA JAMISON | 06/20/2002
POPLARVILLE, MS
LANDRY, BRYNN | 06/20/2002
WILLIAMSTOWN, VT
LEONARD, ROBERT | 06/20/2002
CLOVERDALE, CA
LIEBERMAN, BRUCE IRWIN | 06/20/2002
LEAWOOD, KS
LILLISTON, PAULINE FRANCES | 06/20/2002
TANGIER, VA
LISS, DANA JOY | 06/20/2002
MIAMISBURG, OH
LOVELESS, LISA | 06/20/2002
PICAYUNE, MS
MAGUIRE, PATRICIA JANE | 06/20/2002
HOPKINS, MN
MAJOR, WILLIAM C | 06/20/2002
NINILCHIK, AK
MARES, MICHELLE R | 06/20/2002
MT ZION, IL
MATONIS, LANA MARIE | 06/20/2002
PHOENIX, AZ
MCFADDEN, THOMAS C | 06/20/2002
LOUISVILLE, KY
MELGOZA, CHRISTELLA SUE | 06/20/2002
TUCSON, AZ
MEREDITH, GEORGE M | 06/20/2002
VIRGINIA BCH, VA
MERVINE, DOROTHY LANTZ | 06/20/2002
CRESSON, PA
MILLER, LEIGH A | 06/20/2002
CHICAGO, IL
MIZE, SHERIECE | 06/20/2002
LAS CRUCES, NM
MOIR, MARILYN | 06/20/2002
CLARINGTON, PA
MOORE, DAPHINE MATTOX | 06/20/2002
HAZEL GREEN, AL
MORRIS, ANTHONY DWAYNE | 06/20/2002
SUMITON, AL
MORRIS, BRIAN J | 06/20/2002
BUSY, KY
MYERS, DEBRA LEE | 06/20/2002
VIDOR, TX
NESTER, RONNIE L | 06/20/2002
GLENDALE, AZ
NORDLING, DEBRA S | 06/20/2002
WESTPORT, CT
OGIN, GARY ARTHUR | 06/20/2002
ENGLEWOOD, CO
PAWLOSKI, PATRICIA LABRECK | 06/20/2002
PEORIA, AZ
POPE, LANCE W | 06/20/2002
OAK BLUFFS, MA
QUARLES, KRISTI GAIL | 06/20/2002
CIMARRON, NM
RAYMOND, DANA ALLEN | 06/20/2002
SAN ANTONIO, TX
RESCIGNO, ELIZABETH A | 06/20/2002
EAST HAVEN, CT
RICCIARDI, JUDE | 06/20/2002
N BERGEN, NJ
RICHARD, CINDI LYNN | 06/20/2002
POLLOK, TX
RICHARDSON, TAD EDWIN | 06/20/2002
PHOENIX, AZ
RICHARDSON, STEPHEN RALPH | 06/02/2002
FRESNO, CA
ROUSE, DEBORAH RENA | 06/20/2002
PINE BLUFF, AR
ROWAN, HERBERT PAUL | 06/20/2002
WATERFORD, MI
RUDLOFF, SHARON M | 06/20/2002
TUCSON, AZ
SALO, STEVEN MARTIN | 06/20/2002
CONNEAUT, OH
SCHRANER, BOBBIE | 06/20/2002
TAYLORSVILLE, MS
SEDERWALL, GINA M | 06/20/2002
KINGSTON, TN
SHAH, SURESH B | 06/20/2002
SMITHTOWN, NY
SHAW, SUZEN | 06/20/2002
TUCSON, AZ
SHERRILL, DONALD C | 06/20/2002
ORANGE CITY, FL
SIGNORINE, LOUIS A | 06/20/2002
GILFORD, NH
SILBERMAN, DAVID J | 06/20/2002
ANDOVER, MA
SIMPSON, LIZZIE MARIE | 06/20/2002
GOODWATER, AL
SISK, DONNA J | 06/20/2002
E PRAIRIE, MO
SMITH, DARWIN LEON | 06/20/2002
MUSKEGON, MI
SMITH, RHONDA ANN | 06/20/2002
HOYT LAKES, MN
SMITH, JANICE SUE | 06/20/2002
FORT WAYNE, IN
SMITH, SHARON LYNN | 06/20/2002
MEXIA, TX
SMUTZ, HALLY ROCHELLE | 06/20/2002
FORT WORTH, TX
STEINBERG, JONATHAN M | 06/20/2002
COMSTOCK, NY
STRAHAN, RONALD W | 06/20/2002
LOS ANGELES, CA
SWANSON, SUZANNE FAE | 06/20/2002
GRAND ISLAND, NE
TOMLINSON, PATRICIA MARIE | 06/20/2002
JUNCTION, TX
ULRICH, CANDACE M | 06/20/2002
CAPE GIRARDEAU, MO
VALDEZ, KENNETH | 06/20/2002
SAN LEANDRO, CA
WALKER, SHARON KAY | 06/20/2002
LINCOLN, NE
WEBB, KENNETH RANDLE | 06/20/2002
FORT WORTH, TX
WHITE, CONNIE M | 06/20/2002
PAYSON, AZ
WHOBREY, LAURA | 06/20/2002
GULFPORT, FL
WILLIAMS, RAMONA VELMARIE | 06/20/2002
PHOENIX, AZ
WILLIAMS, CYNTHIA R | 06/20/2002
MANTACHIE, MS
WILSON, RUTHEL W | 06/20/2002
KERRVILLE, TX
WILSON, CYNTHIA PRETRICE | 06/20/2002
MONTGOMERY, AL
WILSON, NANCY M | 06/20/2002
GLENDALE HGTS, IL
WOOD, MARINA F | 06/20/2002
PLAINFIELD, IL
WYATT, EMILY JEAN | 06/20/2002
ALPINE, AL
ZENGOTITA, HIRAM E | 06/20/2002
ANDOVER, MA
FEDERAL/STATE EXCLUSION/SUSPENSION
CARLOCK, JENNIFER MARIE | 06/20/2002
ST LOUIS, MO
ESTEY, RAYMOND GRANT | 06/20/2002
SHINGLE SPRINGS, CA
GEROV, SEMEN | 06/20/2002
LOS ANGELES, CA
LEE VERN HOME HEALTH SVC INC | 06/20/2002
ST LOUIS, MO
LEVINE, MARK ALLEN | 06/20/2002
CINCINNATI, OH
WIGGINS, CHARLES T | 06/20/2002
BIRMINGHAM, AL
OWNED/CONTROLLED BY CONVICTED ENTITIES
NORWELL FAMILY CHIROPRACTIC | 06/20/2002
NORWELL, MA
THERESA K MILLER FAMILY | 06/20/2002
ELIZABETHTOWN, KY

Dated: June 4, 2002.
Calvin Anderson, Jr.,
Director, Health Care Administrative Sanctions, Office of Inspector General.

[FR Doc. 02-16217 Filed 7-1-02; 8:45 am]

BILLING CODE 4150-04-P